COMMISSION ON CIVIL RIGHTS

Notice of Public Meeting of the Missouri Advisory Committee for a Meeting on a Project Proposal on Police Violence in Missouri

AGENCY: U.S. Commission on Civil Rights.

ACTION: Notice of meeting.

SUMMARY: Notice is hereby given, pursuant to the provisions of the rules and regulations of the U.S. Commission on Civil Rights (Commission) and the Federal Advisory Committee Act that the Missouri Advisory Committee (Committee) will hold a meeting on Monday, October 27, 2014, at 12:00 p.m. for the purpose of discussing and voting on a project proposal on police violence in Missouri. The proposal arose in the aftermath of recent events in Ferguson, Missouri.

Members of the public can listen to the discussion. This meeting is available to the public through the following toll-free call-in number: 888-466-4462, conference ID: 8151697. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office by November 27, 2014. Written comments may be mailed to the Midwestern Regional Office, U.S. Commission on Civil Rights, 55 W. Monroe St., Suite 410, Chicago, IL 60615. They may also be faxed to the Commission at (312) 353-8324, or emailed to Administrative Assistant, Carolyn Allen at callen@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Missouri Advisory Committee link. Persons interested in the work of this Committee are directed to the Commission's Web site, http://www.usccr.gov, or may contact the Midwestern Regional Office at the above email or street address.

Agenda

Welcome

12:00 p.m. to 12:05 p.m.

S. David Mitchell, Chairman, Missouri Advisory Committee

Presentation of Project Proposal on Police Violence in Missouri

12:05 p.m. to 12:20 p.m.

Melissa Wojnaroski, Civil Rights Analyst, USCCR

Deliberation and Vote on Proposal

12:20 p.m. to 12:45 p.m.

Missouri Advisory Committee

Planning Next Steps

12:45 p.m. to 1:00 p.m.

Adjournment

1:00 p.m.

DATES: The meeting will be held on Monday, October 27, 2014, at 12:00 p.m. CST.

Public Call Information:

Dial: 888-466-4462

Conference ID: 8151697

Dated: October 9, 2014.
David Mussatt,
Chief, Regional Programs Unit.

[FR Doc. 2014-24465 Filed 10-14-14; 8:45 am]

BILLING CODE 6335-01-P